DEPARTMENT OF THE INTERIOR

Bureau of Indian Affairs

Renewal of Agency Information Collection for Appointed Counsel in Involuntary Indian Child Custody Proceedings in State Courts

AGENCY: Bureau of Indian Affairs, Interior.

ACTION: Notice.

SUMMARY: As required by the Paperwork Reduction Act of 1995, this notice announces that the Information Collection Request for the Payment for Appointed Counsel in Involuntary Indian Child Custody Proceedings in State courts has been submitted to OMB for review and renewal. The information collection is currently authorized by OMB Control Number 1076-0111, which expires February 28, 2010.

DATES: Written comments must be submitted on or before March 22, 2010.

ADDRESSES: Comments should be submitted to the Desk Officer for the Department of the Interior, Office of Management and Budget, either by facsimile at (202) 395-5806, or you may send an e-mail to OIRA_DOCKET@omb.eop.gov. Please send a copy of your comments to Sue Settles, Chief, Division of Human Services, Office of Indian Services, Bureau of Indian Affairs, Department of the Interior, 1849 C Street, NW., Mail Stop 4513, Washington, DC 20240, facsimile: (202) 208-5113, e-mail Sue.Settles@bia.gov.

FOR FURTHER INFORMATION CONTACT: You may request further information or obtain copies of the information collection request submission from Sue Settles, telephone: (202) 513-7621, e-mail: Sue.Settles@bia.gov.

SUPPLEMENTARY INFORMATION:

I. Abstract

The BIA is seeking renewal of the approval for the information collection conducted under 25 CFR 23.13, implementing the Indian Child Welfare Act (25 U.S.C. 1901 et seq.). Approval for this collection expires February 28, 2010. The information collection allows BIA to receive written requests by State courts that appoint counsel for an indigent Indian parent or Indian custodian in an involuntary Indian child custody proceeding when appointment of counsel is not authorized by State law. The cognizant BIA Regional Director uses this information to decide whether to certify that the client in the notice is eligible to have his counsel compensated by the Bureau in accordance with the Indian Child Welfare Act. No third party notification or public disclosure burden is associated with this collection. The BIA has adjusted its estimate of burden hours to account for more than one respondent per year and to better define the recordkeeping and reporting burdens associated with this collection. BIA published a notice in the Federal Register on October 30, 2009 (74 FR 56208) requesting public comments on the proposed information collection. The comment period ended December 29, 2009. No comments were received.

II. Method of Collection

The following information is collected from State courts in order to allow for payment of appointed counsel in involuntary Indian child custody proceedings. The information collection is submitted to obtain or retain a benefit; i.e., payment for appointed counsel. The information collected is used by the respective Bureau Regional Director to determine:

(a) If an individual Indian involved in an Indian child custody proceeding is eligible for payment of appointed counsel's attorney fees;

(b) If any State statutes provide for coverage of attorney fees under these circumstances;

(c) The State standards for payment of attorney fees in juvenile delinquency proceedings; and,

(d) The name of the attorney, and his actual voucher certified by the court for the work completed on a pre-approved case. This information is required for payment of appointed counsel as authorized by Public Law 95-608.

III. Data

OMB Control Number: 1076-0111.

Title: Payment for Appointed Counsel in Involuntary Indian Child Custody Proceedings in State Courts, 25 CFR 23.13.

Brief Description of Collection: This information is required in order for States to receive payment for counsel appointed to indigent Indian parents or custodians in involuntary child custody proceedings under 25 CFR 23.13. The information is collected to determine applicant eligibility for services.

Type of Review: Extension without change of a currently approved collection.

Respondents: State courts eligible for payment of attorney fees pursuant to 25 CFR 23.13.

Number of Respondents: 4 per year.

Estimated Time per Response: 2 hours for reporting and 1 hour for recordkeeping.

Frequency of Response: Once, on occasion.

Total Annual Burden to Respondents: 12 hours ([2 hours reporting × 4 respondents] + [1 hour recordkeeping + 4 respondents])

Total Annual Cost to Respondents: $0.

IV. Request for Comments

The BIA requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on respondents, such as through the use of automated collection techniques or other forms of information technology.

Please note that an agency may not sponsor or conduct, and an individual need not respond to, a collection of information unless it has a valid OMB Control Number.

OMB has up to 60 days to make a decision on the submission for renewal, but may make the decision after 30 days. Therefore, to receive the best consideration of your comments, you should submit them by the due date (see DATES).

It is our policy to make all comments available to the public for review at the Office of Indian Services, 1849 C Street, NW., Washington, DC during the hours of 9 a.m. to 4 p.m., ET, Monday through Friday except for legal holidays. Before including your address, phone number, e-mail address or other personally identifiable information, be advised that your entire comment—including your personally identifiable information—may be made public at any time. While you may request that we withhold your personally identifiable information, we cannot guarantee that we will be able to do so.

Dated: January 28, 2010.
Alvin Foster,
Chief Information Officer—Indian Affairs.

[FR Doc. 2010-3192 Filed 2-18-10; 8:45 am]

BILLING CODE 4310-4J-P